NUCLEAR REGULATORY COMMISSION

[Docket Nos. 50-277-SLR-2 and 50-278-SLR-2; ASLBP No. 25-989-01-SLR-BD01]

Constellation Energy Generation, LLC; Establishment of Atomic Safety and Licensing Board

Pursuant to the Commission's regulations, see, e.g., 10 CFR 2.104, 2.105, 2.300, 2.309, 2.313, 2.318, 2.321, notice is hereby given that an Atomic Safety and Licensing Board (Board) is being established to preside over the following proceeding:

Constellation Energy Generation, LLC; (Peach Bottom Atomic Power Station, Units 2 and 3)

This proceeding involves the twenty-year subsequent license renewal of Renewed Facility Operating License Nos. DPR-44 and DPR-56, which currently authorize Constellation Energy Generation, LLC to operate Peach Bottom Atomic Power Station Units 2 and 3 until, respectively, August 8, 2033, and July 2, 2034. In response to a notice published in the Federal Register announcing the opportunity to request a hearing, see 90 FR 23,075 (May 30, 2025), Beyond Nuclear, Inc. and the Sierra Club, Inc. filed a hearing request on July 29, 2025.

The Board is comprised of the following Administrative Judges:

Emily I. Krause, Chair, Atomic Safety and Licensing Board Panel, U.S. Nuclear Regulatory Commission, Washington, DC 20555-0001

E. Roy Hawkens, Atomic Safety and Licensing Board Panel, U.S. Nuclear Regulatory Commission, Washington, DC 20555-0001

Dr. David A. Smith, Atomic Safety and Licensing Board Panel, U.S. Nuclear Regulatory Commission, Washington, DC 20555-0001

All correspondence, documents, and other materials shall be filed in accordance with the NRC E-Filing rule. See 10 CFR 2.302.

Dated: August 5, 2025.
Rockville, Maryland.
Emily I. Krause,
Associate Chief Administrative Judge, Atomic Safety and Licensing Board Panel.

[FR Doc. 2025-15044 Filed 8-7-25; 8:45 am]

BILLING CODE 7590-01-P